ENVIRONMENTAL PROTECTION AGENCY

40 CFR Part 52

[NH018-01-7156b; A-1-FRL-6999-5]

Approval and Promulgation of Air Quality Implementation Plans; New Hampshire: New Source Review Revision

AGENCY: Environmental Protection Agency (EPA).

ACTION: Proposed rule.

SUMMARY: EPA is proposing to approve State Implementation Plan (SIP) revisions submitted by the State of New Hampshire. The revisions establish and require the implementation of the Clean Air Act Amendments (CAAA) of 1990 regarding New Source Review (NSR) in areas that have not attained the National Ambient Air Quality Standards (NAAQS) and for areas located within the ozone transport region (OTR). In addition, the revisions remove the dual source definition of stationary source and adopt the plant-wide stationary source definition. The intended effect of this action is to approve New Hamsphire's revisions to PART Env-A 610 (renumbered as Env-A 622), “Additional Requirements in Nonattainment Areas and the New Hampshire Portion of the Northeast Ozone Transport Region.” In the Final Rules Section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Comments must be received on or before August 27, 2001.

ADDRESSES: Comments may be mailed to Steven Rapp, Unit Manager, Air Permits Program, Office of Ecosytem Protection (mail code CAP), U.S. Environmental Protection Agency, EPA New England, One Congress Street, Suite 1100, Boston, MA 02114-2023. Copies of the documents relevant to this action are available for public inspection during normal business hours, by appointment at the Office of Ecosytem Protection, U.S. Environmental Protection Agency, Region I, One Congress Street, 11th floor, Boston, MA, and New Hampshire Department of Environmental Services, 6 Hazen Drive, P.O. Box 95, Concord, NH 03302-0095.

FOR FURTHER INFORMATION CONTACT: Brendan McCahill, (617) 918-1652.

SUPPLEMENTARY INFORMATION: For additional information, see the direct final rule which is located in the Rules Section of this Federal Register.

Authority: 42 U.S.C. 7401 et seq.

Dated: May 22, 2001.
Ira Leighton,
Acting Regional Administrator, EPA New England.

[FR Doc. 01-16564 Filed 7-26-01; 8:45 am]

BILLING CODE 6560-50-P